DEPARTMENT OF TRANSPORTATION

Federal Highway Administration

Announcement of Application Procedure and Deadlines for the Truck Parking Initiative

AGENCY: Federal Highway Administration (FHWA), DOT.

ACTION: Notice; solicitation of applications.

SUMMARY: This notice solicits applications for the truck parking initiative for which funding is available under Section 1305 of the Safe, Accountable, Flexible, Efficient Transportation Equity Act: A Legacy for Users (SAFETEA-LU). SAFETEA-LU directs the Secretary to establish a pilot program to address the shortage of long-term parking for commercial motor vehicles on the National Highway System. States, metropolitan planning organizations (MPOs) and local governments are eligible for the funding available for fiscal years (FY) 2006-2009. Section 1305 allows for a wide range of eligible projects, ranging from construction of spaces and other capital improvements to using intelligent transportation systems (ITS) technology to increase information on the availability of both public and private commercial vehicle parking spaces. For purposes of this program, long-term parking is defined as parking available for 10 or more consecutive hours.

DATES: Applications must be received by the FHWA Division Office no later than November 27, 2006.

ADDRESSES: The FHWA Division Office locations can be found at the following URL: http://www.fhwa.dot.gov/field.html#fieldsites.

FOR FURTHER INFORMATION CONTACT: Mr. William Mahorney, Office of Freight Management and Operations, telephone 202-366-6817 bill.mahorney@dot.gov; for legal questions, Mr. Robert Black, Office of the Chief Counsel, Federal Highway Administration, telephone: (202) 366-1359 robert.black@dot.gov; Federal Highway Administration, Department of Transportation, 400 Seventh Street, SW., Washington, DC 20590. Office hours are from 7:45 a.m. to 4:15 p.m., Monday through Friday, except Federal holidays.

SUPPLEMENTARY INFORMATION:

Electronic Access

An electronic copy of this notice may be downloaded from the Office of the Federal Register's home page at http://www.archives.gov and the Government Printing Office's Web site at http://www.access.gpo.gov.

I. Background

The Truck Parking Initiative could further the goals of the Department of Transportation's new National Strategy to Reduce Congestion on America's Transportation Network, announced on May 16, 2006.¹ By creating a program that provides funds to address long-term truck parking on the National Highway System, the Department anticipates that commercial motor vehicles will be better able to plan rest stops and better time their transit or loading/unloading within urban areas, thereby reducing the urban area's congestion.

¹ Speaking before the National Retail Federation's annual conference on May 16, 2006, in Washington, DC, former U.S. Department of Transportation Secretary Norman Mineta unveiled a new plan to reduce congestion plaguing America's roads, rail, and airports. The National Strategy to Reduce Congestion on America's Transportation Network includes a number of initiatives designed to reduce transportation congestion. The transcript of these remarks is available at the following URL: http://dot.gov/minetasp051606.htm.

The shortage of long-term truck parking on the National Highway System (NHS) is a problem that needs to be addressed. The 2002 FHWA Report “Study of Adequacy of Parking Facilities” ² indicated that truck parking shortages are either non-existent or corridor-specific in some States, but more severe and pervasive in some States and regions. The report recommendations include expansion or improvement of public rest areas; expansion or improvement of commercial truck stops and travel plazas; use of public-private partnerships; educating or informing drivers about available spaces; and changing current parking rules. This lack of available parking not only adds to congestion in urban areas, but may affect safety by reducing the opportunities for drivers to obtain rest needed to comply with the Federal Motor Carrier Safety Regulations, Hours of Service of Drivers (49 CFR part 395.3(a)(1)), which prohibits “driving more than 11 cumulative hours following 10 consecutive hours off-duty.” Further, parking areas are often designed or maintained for short-term parking only, and as a result, allow parking for limited time periods. Section 1305 of SAFETEA-LU (Pub. L. 109-59; Aug. 10, 2005) directed the Secretary of Transportation to establish a pilot program to address the long-term parking shortages along the National Highway System (NHS). Eligible projects under Section 1305 include projects that:

² A copy of this document is available for inspection in the docket for this notice.

1. Promote the real-time dissemination of publicly or privately provided commercial motor vehicle parking availability on the NHS using ITS and other means;

2. Opening non-traditional facilities to commercial motor vehicle parking, including inspection and weigh stations, and park and ride facilities;

3. Making capital improvements to public commercial motor vehicle parking facilities currently closed on a seasonal basis to allow the facilities to remain open year round;

4. Constructing turnouts along the NHS to facilitate commercial motor vehicle access to parking facilities, and/or improving the geometric design of interchanges to improve access to commercial motor vehicle parking facilities;

5. Constructing commercial motor vehicle parking facilities adjacent to commercial truck stops and travel plazas; and

6. Constructing safety rest areas that include parking for commercial motor vehicles.

The FHWA believes that projects designed to disseminate information on the availability and/or location of public or private long-term parking spaces provides the greatest opportunity to maximize the effectiveness of this pilot program.

II. Funding Information

1. The Administrator has determined that $5.385 million is available for grants in FY 2006 under Section 1305, after obligation limitations.

2. Section 1305 authorizes $6.25 million for each of the fiscal years 2006 through 2009. Each year, after Congress has appropriated funds for the program, the obligation limitation will be determined. A similar solicitation for grant applications will be published each fiscal year. Funds authorized to carry out this section remain available until expended.

3. Projects funded under this section shall be treated as projects on a Federal-Aid System under Chapter 1 of Title 23, United States Code.

4. Grants may be funded at an 80 to 100 percent funding level based on the criteria specified in Sections 120(b) and (c) of Title 23, U.S. Code.

This notice will also be posted on the FHWA Office of Freight Management and Operations Web site, http://www.ops.fhwa.dot.gov/freight. An original and ten copies of each application must be submitted by a State Department of Transportation to the FHWA's Office of Freight Management and Operations, via the FHWA Division Office in the State in which the application was submitted. Awarded projects will be administered by the applicable State Department of Transportation as a Federal-aid grant. In accordance with the Paperwork Reduction Act, OMB has provided emergency clearance for this action (OMB Control number 2125-0610, July 28, 2006). A request for comments for the new information collection (Docket No. 2006-25066) was published in the Federal Register on June 26, 2006. Comments may be submitted in response to this request until August 25, 2006.

III. Proposal Content

All proposals should include the following:

1. A detailed project description, which would include the extent of the long-term truck parking shortage in the corridor/area to be addressed, along with contact information for the project's primary point of contact, and whether funds are being requested under 23 U.S.C. 120(b) or (c). Data helping to define the shortage may include truck volume (Average Daily Truck Traffic—ADTT) in the corridor to be addressed, current number of long-term commercial motor vehicle parking spaces, use of current long-term parking spaces, driver surveys, observational field studies, proximity to freight loading/unloading facilities, and proximity to the NHS.

2. The rationale for the project should include an analysis and demonstration of how the proposed project will positively affect truck parking, safety, traffic congestion, or air quality in the identified corridor. Examples may include: advance information on availability of parking that may help to reduce the number of trucks parked on roadsides and increase the use of available truck parking spaces.

3. The scope of work should include a complete listing of activities to be funded through the grant, including technology development, information processing, information integration activities, developmental phase activities (planning, feasibility analysis, environmental review, engineering or design work, and other activities), construction, reconstruction, acquisition of real property (including land related to the project and improvements to land), environmental mitigation, construction contingencies, acquisition of equipment, and operational improvements.

4. Stakeholder identification should include evidence of prior consultation and/or partnership with affected Metropolitan Planning Organizations (MPOs), local governments, community groups, private providers of commercial motor vehicle parking, and motorist and trucking organizations. Also, include a listing of all public and private partners, and the role each will play in the execution of the project. Commitment/consultation examples may include: Memorandums of Agreement, Memorandums of Understanding, contracts, meeting minutes, letters of support/commitment, and documentation in a metropolitan transportation improvement program (TIP) or statewide transportation improvement program (STIP).

5. A detailed quantification of eligible project costs by activity, an identification of all funding sources that will supplement the grant and be necessary to fully fund the project, and the anticipated dates on which the additional funds are to be made available. Public and private sources of funds (non-Federal commitment) will be considered by the FHWA as an in-kind match contributing to the project. State matching funds will be required for projects eligible under 23 U.S.C. 120 U.S.C. (b).

6. Applicants should provide a timeline that includes work to be completed and anticipated funding cycles. Gantt charts are preferred.

7. Environmental process: Please include a timeline for complying with the National Environmental Policy Act (NEPA) process, if applicable.

8. Include a project map that consists of a schematic illustration depicting the project and connecting transportation infrastructure.

9. Measurement Plan. Submitter must describe a measurement plan to determine whether or not the project achieved its intended results. The measurement plan must continue for three years beyond the completion date of the project. After the three-year period, a final report quantifying the results of the project must be submitted to the FHWA.

10. Proposals should not exceed 20 pages in length.

IV. Applicant Review Information

Grant applications that contain the mandatory elements will be scored competitively according to the soundness of their methodology and subject to the criteria listed below. Sub-factors listed under each factor are of equal importance unless otherwise noted.

A. Scoring Criteria

1. Demonstration of severe shortage (number of spaces, access to existing spaces or information/knowledge of space availability) of commercial motor vehicle parking capacity/utilization in corridor or area to be addressed (20 percent).

Examples used to demonstrate severe shortage may include:

• Average Daily Truck Traffic (ADTT) in proposal area.

• Average daily shortfall of truck parking in proposal area.

• Ratio of ADTT to average daily shortfall of truck parking in proposal area.

• Proximity to NHS.

2. The extent to which the proposed solution resolves the described shortage (35 percent).

Examples should include:

• Number of truck parking spaces per day that will be used as a result of the proposed solution.

• The effect on highway safety, traffic congestion, and/or air quality.

3. Cost effectiveness of proposal (25 percent).

Examples should include:

• How many truck parking spaces will be used per day per dollar expended?

• Total cost of project, including all non-Federal funds that will be contributed to the project.

4. Scope of proposal (20 percent).

Examples should include:

• Evidence of a wide range of input from affected parties, including State and local governments, community groups, private providers of commercial motor vehicle parking, and motorist and trucking organizations.

• Whether the principles outlined in the proposal can be applied to other locations/projects and possibly serve as a model for other locations.

B. Review Standards

1. All applications for grants must be submitted to the FHWA Division Office by the State DOT by the date specified in this notice.

2. State DOTs should ensure that the project proposal is compatible with or documented on their planning documents (TIP and STIP). They should also validate, to the extent the can, any analytic data.

3. Each application will be reviewed for conformance with the provisions in this notice.

4. Applications lacking any of the mandatory elements or arriving after the deadline for submission will not be considered. To assure full consideration, proposals should not exceed 20 pages in length.

5. Applicants may be contacted for additional information or clarification.

6. Applications complying with the requirements outlined in this notice will be evaluated competitively by a panel selected by the Director, Office of Freight Management and Operations, and will be scored as described in the scoring criteria.

7. If the FHWA determines that the project is technically or financially unfeasible, FHWA will notify the applicant, in writing.

8. The FHWA reserves the right to partially fund or request modification of projects.

9. All information described in the submitter's mandatory proposal elements must be quantifiable and sourced.

10. Submitter must describe a measurement plan to determine whether or not the project will achieve its intended results. The measurement plan must continue for three years beyond the date of the project. After a three-year period, a final report quantifying the results of the project must be submitted to the FHWA.

11. The proposed projects should not compete with local businesses or commercial enterprises.

V. Selection Process

The grant applications will be ranked by final score. The FHWA will select applications based on those rankings, subject to the availability of funds.

VI. Award Administration Information

A. Award Notices

The FHWA recognizes that each funded project is unique, and therefore may attach conditions to different projects' award documents. The FHWA will send an award letter with a grant agreement that contains all the terms and conditions for the grant. These successful applicants must execute and return the grant agreement, accompanied by any additional items required by the grant agreement.

B. Performance Reporting and Measurement

Failure to provide the measurement plan will be considered during the past-performance element of future grant applications.

Authority: Pub. L. 109-59; Aug. 10, 2005.

Issued on: August 23, 2006.
Frederick G. Wright, Jr.,
Federal Highway Executive Director.

[FR Doc. E6-14254 Filed 8-25-06; 8:45 am]

BILLING CODE 4910-22-P